DEPARTMENT OF COMMERCE

National Telecommunications and Information Administration

Commerce Spectrum Management Advisory Committee Meeting

AGENCY: National Telecommunications and Information Administration (NTIA), Department of Commerce (DOC)

ACTION: Notice of Open Meeting

SUMMARY: This notice announces a public meeting of the Spectrum Management Advisory Committee (Committee). The Committee provides advice to the Assistant Secretary for Communications and Information on spectrum management matters.

DATES: The meeting will be held on December 4, 2008, from 9:30 a.m. to 12:30 p.m., Eastern Standard Time.

ADDRESSES: The meeting will be held at the United States Department of Commerce, 1401 Constitution Ave. N.W., Room 5855 (the Secretary's Conference Room), Washington, DC 20230. Public comments may be mailed to Commerce Spectrum Management Advisory Committee, National Telecommunications and Information Administration, 1401 Constitution Avenue N.W., Room 4725, Washington, DC 20230 or emailed to spectrumadvisory@ntia.doc.gov.

FOR FURTHER INFORMATION CONTACT: Eric Stark, Designated Federal Officer, at (202) 482-1880 or estark@ntia.doc.gov; Joe Gattuso at (202) 482-0977 or jgattuso@ntia.doc.gov; and/or visit NTIA's web site at www.ntia.doc.gov.

SUPPLEMENTARY INFORMATION: Background: The Secretary of Commerce established the Committee to implement a recommendation of the President's Initiative on Spectrum Management pursuant to the President's November 29, 2004 Memorandum for the Heads of Executive Departments andAgencies on the subject of “Spectrum Management for the 21st Century.”¹ This Committee is subject to the Federal Advisory Committee Act (FACA), 5 U.S.C. App. 2, and is consistent with the National Telecommunications and Information Administration Act, 47 U.S.C. § 904(b). The Committee provides advice to the Assistant Secretary of Commerce for Communications and Information on needed reforms to domestic spectrum policies and management to enable the introduction of new spectrum-dependent technologies and services, including long-range spectrum planning and policy reforms for expediting the American public's access to broadband services, public safety, and digital television. The Committee functions solely as an advisory body in compliance with the FACA.

¹ President's Memorandum on Improving Spectrum Management for the 21st Century, 49 Weekly Comp. Pres. Doc. 2875 (Nov. 29, 2004)(Executive Memorandum).

Matters to Be Considered: The Committee will consider a transition report and any remaining reports of its Technical Sharing Efficiencies and Operational Sharing Efficiencies subcommittees. It will provide an opportunity for public comment at the meeting.

Time and Date: The meeting will be held on December 4, 2008, from 9:30 a.m. to 12:30 p.m. Eastern Standard Time. The times and the agenda topics are subject to change. Please refer to NTIA's web site, http://www.ntia .doc.gov, for the most up-to-date meeting agenda.

Place: The meeting will be held at the United States Department of Commerce, 1401 Constitution Ave. N.W., Room 5855 (the Secretary's Conference Room), Washington, DC 20230. The meeting will be open to the public and press on a first-come, first-served basis. Space is limited. The public meeting is physically accessible to people with disabilities. Individuals requiring special services, such as sign language interpretation or other ancillary aids, are asked to notify Mr. Gattuso, at (202) 482-0977 or jgattuso@ntia.doc.gov, at least five (5) business days before the meeting.

Status: Interested parties are invited to attend and to submit written comments with the Committee at any time before or after a meeting. Parties wishing to submit written comments for consideration by the Committee in advance of this meeting should send them to the above-listed address and must be received by close of business on December 1, 2008, to provide sufficient time for review. Comments received after December 1, 2008, will be distributed to the Committee but may not be reviewed prior to the meeting. It would be helpful if paper submissions also include a three and one-half inch computer diskette in HTML, ASCII, Word or WordPerfect format (please specify version). Diskettes should be labeled with the name and organizational affiliation of the filer, and the name of the word processing program used to create the document. Alternatively, comments may be submitted electronically to spectrumadvisory@ntia.doc.gov. Comments provided via electronic mail may also be submitted in one or more of the formats specified above.

Records: NTIA maintains records of all Committee proceedings. Committee records are available for public inspection at NTIA's office at the address above. Documents including the Committee's charter, membership list, agendas, minutes, and any reports are available on NTIA's Committee web page at http://www.ntia.doc.gov/ advisory/spectrum.

Dated: November 6, 2008.
Kathy D. Smith,
Chief Counsel, National Telecommunications and Information Administration.

[FR Doc. E8-26871 Filed 11-10-08; 8:45 am]

BILLING CODE 3510-60-S